FEDERAL ACCOUNTING STANDARDS ADVISORY BOARD

Notice of New Exposure Draft Reporting Corrections of Errors and Changes in Accountng—Amendment of SFFAS 7, Accounting for Revenue and Other Financing Sources

Board Action: Pursuant to the Federal Advisory Committee Act (Pub. L. No. 92-463), as amended, and the FASAB Rules of Procedure, as amended in October, 1999, notice is hereby given that the Federal Accounting Standards Advisory Board has published a new exposure draft, Reporting Corrections of Errors and Changes in Accounting Principles—Amendment to SFFAS 7, Accounting for Revenue and Other Financing Sources.

A summary of the proposed Statement follows: On May 11, 2001, the Federal Accounting Standards Advisory Board (FASAB) released for public comment an exposure draft (ED) to amend Statement of Federal Financial Accounting Standards (SFFAS) 7, Accounting for Revenue and Other Financing Sources and Concepts for Reconciling Budgetary and Financial Accounting. The Chairman of the Federal Accounting Standards Advisory Board announced that the FASAB has issued an exposure draft of a proposed standard amending the reporting requirements for errors, discovered in the current year, that would have materially affected prior year financial statements. The current standard requires that adjustments be recognized as a change in cumulative results of operations (rather than as an element of net results of operations for the period) and that prior period financial statements not be restated for prior period adjustments recognized in the current period. The proposed amendment requires that when material errors are discovered in prior year financial statements, all statements presented must be restated to correct the error. The primary reason for proposing the amendment is to allow reporting entities to present comparative statements. The exposure draft, entitled Reporting Corrections of Errors and Changes in Accounting Principles, Amendment of SFFAS 7, Accounting for Revenue and Other Financing Sources, will be out for comment until June 11, 2001. The proposed amendment of SFFAS No. 7 would be effective for periods beginning after September 30, 2001.

The exposure draft will be mailed to FASAB's mailing list subscribers. Additionally, it is available on FASAB's home page http://www.financenet.gov/fasab.htm. Copies can be obtained by contacting FASAB at (202) 512-7350, or palmer@fasab.gov. For further information call Andrea Palmer (202) 512-7360.

Written comments are requested by June 11, 2001, and should be sent to: Wendy M. Comes, Executive Director, Federal Accounting Standards Advisory Board, 441 G Street, NW., Suite 6814, Mail Stop 6K17V, Washington, DC 20548.

For Further Information, Contact: Wendy Comes, Executive Director, 441 G St., NW., Room 6814, Washington, DC 20548, or call (202) 512-7350.

Authority: Federal Advisory Committee Act. Pub. L. No. 92-463.

Dated: May 8, 2001
Lucy Lomax,
Assistant Executive Director.

[FR Doc. 01-11935 Filed 5-10-01; 8:45 am]

BILLING CODE 1610-01-M